SMALL BUSINESS ADMINISTRATION

[Declaration of Disaster #3295]

State of California

As a result of the President's major disaster declaration on September 14, 2000, I find that Napa County, California constitutes a disaster area due to damages caused by an earthquake that occurred on September 3, 2000. Applications for loans for physical damage as a result of this disaster may be filed until the close of business on November 13, 2000, and for loans for economic injury until the close of business on June 14, 2001 at the address listed below or other locally announced locations: U.S. Small Business Administration, Disaster Area 4 Office, P. O. Box 13795, Sacramento, CA 95853-4795.

In addition, applications for economic injury loans from small businesses located in the contiguous counties of Lake, Solano, Sonoma, and Yolo may be filed until the specified date at the above location.

The interest rates are:

| Percent
For Physical Damage:
Homeowners with credit available elsewhere | 7.375
Homeowners without credit available elsewhere | 3.687
Businesses with credit available elsewhere | 8.000
Businesses and non-profit organizations without credit available elsewhere | 4.000
Others (including non-profit organizations) with credit available elsewhere | 6.750
For Economic Injury:
Businesses and small agricultural cooperatives without credit available elsewhere | 4.000

The numbers assigned to this disaster are 329502 for physical damage and 9I8400 for economic injury.

(Catalog of Federal Domestic Assistance Program Nos. 59002 and 59008)
Dated: September 18, 2000.
Herbert L. Mitchell,
Acting Associate Administrator for Disaster Assistance.

[FR Doc. 00-24473 Filed 9-22-00; 8:45 am]

BILLING CODE 8025-01-P